DEPARTMENT OF COMMERCE

Foreign-Trade Zones Board

[Docket 44-2008]

Foreign-Trade Zone 77 Memphis, Tennessee, Application for Subzone, Black & Decker Corporation(Power Tools, Lawn and Garden Tools, and Home Products Distribution), Jackson, Tennessee

An application has been submitted to the Foreign-Trade Zones Board (the Board) by the City of Memphis, grantee of FTZ 77, requesting special-purpose subzone status for the tools and home products warehousing/distribution facilities of Black & Decker Corporation, in Jackson, Tennessee. The application was submitted pursuant to the provisions of the Foreign-Trade Zones Act, as amended (19 U.S.C. 81a-81u), and the regulations of the Board (15 CFR part 400). It was formally filed on August 5, 2008.

The Black & Decker site, consisting of a manufacturing plant (2 bldgs., 482,000 sq. ft.) and a distribution center (1 building, 675,000 sq. ft.) on 177 acres, is located at the intersection of Highway 45 North and Passmore Lane in Jackson, Tennessee. The facilities (700 employees) are used for the quality inspection, kitting, repackaging, order fulfillment, warehousing and distribution of power tools, lawn and garden tools, home products and related products and accessories; activities which Black & Decker is proposing to perform under FTZ procedures. Some 75 percent of the components are sourced abroad. About 5 to 10 percent of production is currently exported. None of the activities which Black & Decker is proposing to perform under zone procedures would constitute manufacturing or processing under the FTZ Board's regulations.

Zone procedures would exempt Black & Decker from Customs duty payments on foreign products that are re-exported. On domestic sales, the company would be able to defer payment until merchandise is shipped from the facility. The company may also realize certain logistical benefits related to the use of direct delivery and weekly customs entry procedures. The application indicates that FTZ procedures would be used to support Black & Decker's Tennessee-based distribution activity in competition with facilities abroad.

In accordance with the Board's regulations, Diane Finver of the FTZ staff is designated examiner to investigate the application and report to the Board.

Public comment is invited from interested parties. Submissions (original and 3 copies) shall be addressed to the Board's Executive Secretary at the address below. The closing period for their receipt is October 14, 2008. Rebuttal comments in response to material submitted during the foregoing period may be submitted during the subsequent 15-day period (to October 28, 2008).

A copy of the application will be available for public inspection at each of the following locations: U.S Department of Commerce Export Assistance Center, 22 North Front Street, Suite 200, Memphis, Tennessee 38103; and, Office of the Executive Secretary, Foreign-Trade Zones Board, Room 2111, U.S. Department of Commerce, 1401 Constitution Avenue, NW, Washington, D.C. 20230-0002.

For further information, contact Diane Finver at Diane_Finver@ita.doc.gov or (202) 482-1367.

Dated: August 7, 2008.
Andrew McGilvray,
Executive Secretary.

[FR Doc. E8-18849 Filed 8-13-08; 8:45 am]

BILLING CODE 3510-DS-S